DEPARTMENT OF AGRICULTURE

Forest Service

Notice of Proposed New Fee Sites

AGENCY: Forest Service, Agriculture (USDA).

ACTION: Notice of proposed new fee sites.

SUMMARY: The Carson National Forest is proposing to charge new fees at 14 recreation sites listed in SUPPLEMENTARY INFORMATION of this notice. Funds from fees would be used for operation, maintenance, and improvements of these recreation sites. An analysis of nearby developed recreation sites with similar amenities shows the proposed fees are reasonable and typical of similar sites in the area.

DATES: If approved, the new fees would be implemented no earlier than six months following the publication of this notice in the Federal Register.

ADDRESSES: Carson National Forest, 208 Cruz Alta Road, Taos, NM 87571.

FOR FURTHER INFORMATION CONTACT: Eric Garner, Recreation Program Manager, 575-758-6310 or eric.garner@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Cebolla Mesa and Lower Canjilon Campgrounds are proposed at $10 per night with a $5 extra vehicle fee. In addition, a $5 extra vehicle fee at Echo Amphitheater and Middle Canjilon Lakes is proposed. The El Rito group picnic site is proposed at $75 per visit. A $5 day-use fee per vehicle at Shuree Ponds, Cebolla Mesa, El Nogal, and Upper Canjilon Lakes would be added to improve services and facilities. A new state-wide New Mexico annual pass is being proposed at $40. The full suite of Interagency passes would be honored.

New fees would provide increased visitor opportunities, as well as increased staffing to address operations and maintenance needs and enhance customer service. Once public involvement is complete, these new fees will be reviewed by a Recreation Resource Advisory Committee prior to a final decision and implementation.

Advanced reservations for campgrounds and cabins will be available through www.recreation.gov or by calling 1-877-444-6777. The reservation service charges an $8.00 fee for reservations.

Dated: December 27, 2021.
Sandra Watts,
Acting Associate Deputy Chief, National Forest System.

[FR Doc. 2021-28390 Filed 12-30-21; 8:45 am]

BILLING CODE 3411-15-P